DEPARTMENT OF JUSTICE

Notice of Extension of Public Comment Period

On December 17, 2020, the Department of Justice lodged a proposed consent decree with the United States District Court for the Northern District of Georgia in the lawsuit entitled United States, the State of Utah, the State of Rhode Island and the Commonwealth of Massachusetts Executive Office of Workforce Development, Department of Labor Standards v. The Home Depot, U.S.A., Inc., Civil Action No. 1:20CV5112.

The United States, in conjunction with the State of Utah, the State of Rhode Island, and the Commonwealth of Massachusetts Executive Office of Workforce Development, Department of Labor Standards, filed this lawsuit under the Toxic Substances Control Act alleging violations of the Act's Renovation, Repair, and Painting (“RRP”) regulations, 40 CFR part 745, which address lead paint hazards at home renovations. The complaint alleges that Home Depot performed renovations through its retail stores at approximately 2000 homes covered by the RRP regulations without using EPA certified firms, among other allegations. The proposed consent decree requires Home Depot to institute a compliance program and pay a civil penalty of $20,750,000.

On December 23, 2020, the Department of Justice published notice of the lodging of the proposed consent decree. 85 FR 84,001. The notice started a 30-day period for the submission of comments on the proposed consent decree. The Department of Justice has received a request for an extension of the comment period. In consideration of the request, notice is hereby given that the Department of Justice has extended the comment period on the proposed consent decree by an additional 30 days, up to and including February 22, 2021. Comments should be addressed to the Assistant Attorney General, Environment and Natural Resources Division, and should refer to United States, the State of Utah, the State of Rhode Island and the Commonwealth of Massachusetts Executive Office of Workforce Development, Department of Labor Standards v. The Home Depot, U.S.A., Inc., D.J. Ref. No. 90-5-1-1-11854. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $22.25 (25 cents per page reproduction cost) payable to the United States Treasury.

Patricia McKenna,
Assistant Section Chief, Environmental Enforcement Section, Environment and Natural Resources Division.

[FR Doc. 2021-02057 Filed 1-29-21; 8:45 am]

BILLING CODE 4410-15-P